SECURITIES AND EXCHANGE COMMISSION

[File No. 500-1]

Power Air Corporation, Wescorp Energy, Inc., and World Ventures, Inc.; Order of Suspension of Trading

January 15, 2014.

It appears to the Securities and Exchange Commission that there is a lack of current and accurate information concerning the securities of Power Air Corporation because it has not filed any periodic reports since the period ended June 30, 2010.

It appears to the Securities and Exchange Commission that there is a lack of current and accurate information concerning the securities of Wescorp Energy, Inc. because it has not filed any periodic reports since the period ended September 30, 2011.

It appears to the Securities and Exchange Commission that there is a lack of current and accurate information concerning the securities of World Ventures, Inc. because it has not filed any periodic reports since the period ended October 31, 2009.

The Commission is of the opinion that the public interest and the protection of investors require a suspension of trading in the securities of the above-listed companies. Therefore, it is ordered, pursuant to Section 12(k) of the Securities Exchange Act of 1934, that trading in the securities of the above-listed companies is suspended for the period from 9:30 a.m. EST on January 15, 2014, through 11:59 p.m. EST on January 29, 2014.

By the Commission.
Elizabeth M. Murphy,
Secretary.

[FR Doc. 2014-01033 Filed 1-15-14; 4:15 pm]

BILLING CODE 8011-01-P